DEPARTMENT OF ENERGY

Office of Energy Efficiency and Renewable Energy

10 CFR Part 431

RIN 1904-AB06

Energy Efficiency Program for Commercial and Industrial Equipment: Efficiency Standards for Commercial Heating, Air Conditioning and Water Heating Equipment

AGENCY: Department of Energy (DOE).

ACTION: Final rule; completion of regulatory review.

SUMMARY: On January 12, 2001, DOE published in the Federal Register the final rule entitled “Energy Efficiency Program for Commercial and Industrial Equipment: Efficiency Standards for Commercial Heating, Air Conditioning and Water Heating Equipment” (66 FR 3336). In accordance with the memorandum of January 20, 2001, from the Assistant to the President and Chief of Staff, entitled “Regulatory Review Plan,” published in the Federal Register on January 24, 2001 (66 FR 7702), DOE temporarily delayed for 60 days the effective date of that rule (66 FR 8745, February 2, 2001). DOE has now completed its review of that regulation, and does not intend to initiate any further rulemaking action to modify its provisions.

DATES: The effective date of the rule amending 10 CFR part 431 published at 66 FR 3336, January 12, 2001, and delayed at 66 FR 8745, February 2, 2001, is confirmed as April 13, 2001.

FOR FURTHER INFORMATION CONTACT: Jill Holtzman, Office of General Counsel, (202) 586-3410, jill.holtzman@hq.doe.gov or Lawrence R. Oliver, Office of the General Counsel, (202) 586-9521, lawrence.oliver@hq.doe.gov or Cyrus Nasseri, Office of Energy Efficiency and Renewable Energy, (202) 586-9138, cyrus.nasseri@ee.doe.gov.

Issued in Washington, DC on May 14, 2001.
Spencer Abraham,
Secretary of Energy.

[FR Doc. 01-12686 Filed 5-18-01; 8:45 am]

BILLING CODE 6450-01-P